DEPARTMENT OF THE INTERIOR

Bureau of Land Management

[LLNVS0100.L51010000.ER0000.LVRWF1304100; NVN-085801, NVN-088592, NVN-089530, and NVN-090050; MO# 4500053295; TAS: 14X5017]

Notice To Extend Mineral Segregation for the Proposed Silver State Solar Project Near Primm in Clark County, Nevada

AGENCY: Bureau of Land Management, Interior.

ACTION: Notice.

SUMMARY: Publication of this notice serves to extend the segregation of the identified lands for an additional two years from appropriation pursuant to the public land laws, including location pursuant to the General Mining Act, but not the Mineral Lands Leasing Act or the authority of the Materials Act of 1947, subject to valid existing rights in existence prior to the original segregation. This segregation extension is warranted to provide for the orderly administration of the public lands to facilitate the development of valuable renewable energy resources and to avoid conflicts between renewable energy generation and mining claims.

DATES: Effective Date: September 1, 2013.

FOR FURTHER INFORMATION CONTACT: For further information or to have your name added to the mailing list, contact Gregory Helseth, Renewable Energy Project Manager, at 702-515-5173; or email at SilverStateSouthEIS@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: Silver State Solar, LLC, has submitted a right-of-way (ROW) application for the construction, operation, maintenance, and termination of a solar energy generation facility on a portion of the ROW application on 13,043 acres of public lands east of Primm, Nevada. The ROW application is assigned BLM case number NVN-089530. This application expands on ROW application NVN-085801. The proposed solar energy project would consist of photovoltaic panels and related ROW appurtenances, including a substation and switchyard facilities, and would produce about 250 megawatts of electricity. The lands covered by the ROW application were initially segregated from the operation of the public land laws through a Notice published in the Federal Register on September 1, 2011 (76 FR 54483). The prior segregation was made pursuant to an Interim Final Segregation Rule, which was in effect at the time. The BLM is in the process of preparing a Supplemental Environmental Impact Statement in connection with its review of the ROW application.

The BLM published a Final Segregation Rule (78 FR 25204) on April 30, 2013, that amended the BLM regulations found in 43 CFR 2090 and 2800. As with the Interim Final Segregation Rule, the Final Rule allows the BLM to temporarily segregate from the operation of the public land laws, by publication of a Federal Register notice, public lands included in a pending solar energy generation ROW application in order to promote the orderly administration of the public lands. The Final Rule also allows a State Director to grant a one-time extension of the initial 2-year project-specific segregation if the State Director determines that such an extension is necessary for the orderly administration of the public lands.

As noted above, the initial 2 year segregation (76 FR 54483) will expire on August 31, 2013. Based on the status of the BLM's processing of the ROW application, the Nevada State Director has determined that the continued segregation of the lands identified below is necessary for the orderly administration of the public lands in order to prevent the filing of mining claims in the ROW application area prior to any final decision by the BLM, which would hinder the development of the project and increase the costs of such development. This one-time 2-year extension of the existing segregation does not affect valid existing rights in mining claims located before the original segregation of the affected lands. Licenses, permits, cooperative agreements, or discretionary land use authorizations of a temporary nature which would not impact lands identified in this notice may be allowed with the approval of an authorized officer of the BLM during the temporary segregative period. The lands segregated under this notice are described as follows:

Mount Diablo Meridian

T. 26 S., R. 59 E.,

sec. 13, lots 1 to 8, inclusive;

sec. 14;

sec. 23, E½;

secs. 24, 25 and 26;

sec. 27, SE¼;

sec. 34, E½, that portion of public lands in the NW¼; lying east of the easterly right-of-way of CC 0360;

secs. 35 and 36.

T. 27 S., R. 59 E.,

secs. 1 and 2;

sec. 3, lots 1 to 4, inclusive, NE¼SE¼NE¼, SE¼SE¼NE¼, NE¼NE¼SE¼, SE¼NE¼SE¼, and SE¼SE¼SE¼;

sec. 9, NE¼SE¼, SW¼SE¼, SE¼SW¼SE¼, NE¼SW¼SE¼, SE¼NW¼SE¼, and NE¼NW¼SE¼, that portion of public lands lying east of the easterly right-of-way of CC 0360;

sec. 10, SE¼NE¼, N½NE¼, and S½;

secs. 11 to 15, inclusive;

secs. 22, 23 and 24;

sec. 25, N½;

sec. 26;

sec. 27, lots 4 to 6, inclusive.

The area described contains 13,043 acres, more or less, in Clark County, Nevada.

The BLM intends to resurvey T. 27 S., R. 59 E., sec. 3, lots 1 to 3, inclusive. The description will be replaced for those lands upon final approval of the official plat of survey.

The segregation extension of land identified in this notice will not exceed 2 years from the effective date. Termination of the segregation, as provided in the Final Rule, is the date that is the earliest of the following: Upon issuance of a decision by the authorized officer granting, granting with modifications, or denying the application for a ROW; automatically at the end of the 2 year segregation extension; or upon publication of a Federal Register notice of termination of the segregation.

Upon termination or expiration of the segregation of these lands, all lands subject to this segregation will automatically reopen to appropriation under the public land laws, including the United States Mining Laws.

Authority: 43 CFR parts 2800 and 2090.

Gary Johnson,
State Director, Acting.

[FR Doc. 2013-21105 Filed 8-29-13; 8:45 am]

BILLING CODE 4310-HC-P